FEDERAL COMMUNICATIONS COMMISSION

47 CFR Part 73

[MB Docket Nos. 07-294; 06-121; 02-277; 04-228, MM Docket Nos. 01-235; 01-317; 00-244; FCC 07-217]

In the Matter of Promoting Diversification of Ownership in the Broadcasting Services; Correction

AGENCY: Federal Communications Commission.

ACTION: Proposed rule; correction.

SUMMARY: The Federal Communications Commission published a document in the Federal Register of May 16, 2008, requesting comment on proposals for the promotion of increased diversity in the broadcasting services. Due to a clerical error, the document contained incorrect comment dates.

DATES: Comments for the proceeding published in the Federal Register on May 16, 2008 (73 FR 28400), are due on or before June 30, 2008. Reply comments are due on or before July 14, 2008.

FOR FURTHER INFORMATION CONTACT: Kristi Thompson, 202-418-1318.

SUPPLEMENTARY INFORMATION: In the Federal Register of May 16, 2008, in FR Doc. E8-11043, on page 28400, in the second column, correct the DATES caption to read: “DATES: Comments for this proceeding are due on or before June 30, 2008. Reply comments are due on or before July 14, 2008.”

Federal Communications Commission.
Marlene H. Dortch,
Secretary.

[FR Doc. E8-11776 Filed 5-28-08; 8:45 am]

BILLING CODE 6712-01-P